COMMODITY FUTURES TRADING COMMISSION

Sunshine Act Meetings

TIME AND DATE: 10:00 a.m., Monday, March 25, 2019.

PLACE: CFTC Headquarters, Lobby-Level Hearing Room, Three Lafayette Centre, 1155 21st Street NW, Washington, DC.

STATUS: Open.

MATTERS TO BE CONSIDERED: The Commodity Futures Trading Commission (“Commission” or “CFTC”) will hold this meeting to consider the following matters:

• Amendment to the Comparability Determination for Japan: Margin Requirements for Uncleared Swaps for Swap Dealers and Major Swap Participants;

• Comparability Determination for Australia: Margin Requirements for Uncleared Swaps for Swap Dealers and Major Swap Participants;

• Final Rule Amending Regulations on Segregation of Assets Held as Collateral in Uncleared Swap Transactions;

• Final Rule Regarding the De Minimis Exception to the Swap Dealer Definition—Swaps Entered into by Insured Depository Institutions in Connection with Loans to Customers;

• Final Rule Regarding Financial Surveillance Examination Program Requirements for Self-Regulatory Organizations;

• Brexit-Related Updates to Memoranda of Understanding and Related Side Letters with the United Kingdom Financial Conduct Authority; and

• Interim Final Rule Regarding Margin Requirements for Uncleared Swaps for Swap Dealers and Major Swap Participants in Light of Brexit.

The agenda for this meeting will be available to the public and posted on the Commission's website at https://www.cftc.gov. In the event that the time, date, or place of this meeting changes, an announcement of the change, along with the new time, date, or place of the meeting, will be posted on the Commission's website.

CONTACT PERSON FOR MORE INFORMATION: Christopher Kirkpatrick, Secretary of the Commission, 202-418-5964.

Dated: March 14, 2019.
Christopher Kirkpatrick,
Secretary of the Commission.

[FR Doc. 2019-05221 Filed 3-15-19; 11:15 am]

BILLING CODE 6351-01-P